DEPARTMENT OF HOMELAND SECURITY

Coast Guard

[Docket No. USCG-2021-0233]

Request for Information on Coast Guard Programs, Regulations, and Policies for Addressing Climate Change

AGENCY: Coast Guard, DHS.

ACTION: Request for information.

SUMMARY: The U.S. Coast Guard seeks input from the public on specific Coast Guard programs, regulations, policies, and procedures that the Coast Guard should consider changing to combat and respond to climate change. This information will help the Coast Guard effectively achieve its missions in a manner that advances the Administration's urgent priorities of climate change mitigation, adaptation, and resilience. We further seek this input to ensure that we are implementing programs, policies, and activities that address (1) the cumulative effects of environmental damage, above all from climate change and (2) the disproportionately high, adverse climate-related impacts on disadvantaged communities, while also promoting a safe, secure, and resilient marine transportation system that facilitates commerce and secures national security interests.

DATES: Comments must be submitted to the online docket via https://www.regulations.gov on or before October 6, 2021.

ADDRESSES: You may submit comments identified by docket number USCG-2021-0233 using the Federal eRulemaking Portal at https://www.regulations.gov. See the “Public Participation and Request for Comments” portion of the SUPPLEMENTARY INFORMATION section for further instructions on submitting comments.

FOR FURTHER INFORMATION CONTACT: For information about this document call or email Mr. Tim Brown, Coast Guard; telephone 202-372-2358, email Timothy.M.Brown@uscg.mil.

SUPPLEMENTARY INFORMATION:

I. Public Participation and Comments

We encourage you to submit comments (or related material) responding to this request for information. We will consider all submissions and may adjust agency policy based on your input. If you submit a comment, please include the docket number for this notice, indicate the specific section of this document to which each comment applies, and provide a reason for each suggestion or recommendation.

Methods for submitting comments. We encourage you to submit comments through the Federal eRulemaking Portal at https://www.regulations.gov. To do so, go to https://www.regulations.gov, type USCG-2021-0233 in the search box and click “Search.” Next, look for this document in the Search Results column, and click on it. Then click on the Comment option. If your material cannot be submitted using https://www.regulations.gov, contact the person in the FOR FURTHER INFORMATION CONTACT section of this document for alternate instructions. Public comments will be in our online docket at https://www.regulations.gov and can be viewed by following that website's instructions provided on its Frequently Asked Questions page. We review all material received, but we may choose not to post off-topic, inappropriate, or duplicate comments that we receive.

Personal information. We accept anonymous submissions. Comments we post to https://www.regulations.gov will include any personal information you have provided. For more about privacy and submissions in response to this document, see DHS's eRulemaking System of Records notice (85 FR 14226, March 11, 2020).

II. Background

The Coast Guard is issuing this request for information in response to Executive Orders 13990 and 14008, which have established the protection of public health and the environment, the mitigation of climate change, and the advancement of environmental justice as policy priorities for this Administration. Executive Order 13990, Protecting Public Health and the Environment and Restoring Science To Tackle the Climate Crisis,¹ states that the Administration's policy is to listen to science; to ensure access to clean air and water; to limit exposure to dangerous chemicals and pesticides; to hold polluters accountable, including those that disproportionately harm communities of color and low-income communities; to reduce greenhouse gas emissions; to bolster resilience to the impacts of climate change; to restore and expand our national treasures and monuments; and to prioritize both environmental justice and the creation of the well-paying union jobs necessary to deliver on these goals. The Order directs agencies to seek input from the public and stakeholders, including State, local, Tribal, and territorial officials, scientists, labor unions, environmental advocates, and environmental justice organizations.

¹ 86 FR 7037 (published Jan. 25, 2021).

The Order directs agencies immediately to review all regulations, orders, guidance documents, policies, or any other similar agency actions undertaken between January 20, 2017, and January 20, 2021, that are inconsistent with the listed policy priorities. In addition, agencies are directed to contemplate and consider whether to take any additional agency actions, within their authority, to fully enforce the listed policy priorities.

Executive Order 14008, Tackling the Climate Crisis at Home and Abroad,² further places the climate crisis at the center of U.S. foreign policy and national security by deploying the full capacity of its agencies to combat the climate crisis, by implementing a Government-wide approach that reduces climate pollution in every sector of the economy; by increasing resilience to the impacts of climate change; by protecting public health; by conserving our lands, waters, and biodiversity; by delivering environmental justice; and by spurring well-paying jobs and economic growth, especially through innovation, commercialization, and deployment of clean energy technologies and infrastructure. The Order states that successfully meeting these challenges will require the Federal Government to pursue a coordinated approach from planning to implementation, coupled with substantive engagement by stakeholders, including State, local, and Tribal governments.

² 86 FR 7619 (published Feb. 1, 2021).

This request for information is also consistent with Executive Order 13563, Improving Regulation and Regulatory Review,³ which calls for a regulatory system that is based on the best available science and protects public health, welfare, safety, and our environment while promoting economic growth, innovation, competitiveness, and job creation. The Executive Order directs agencies to consider how best to promote retrospective analysis of rules that may be outmoded, ineffective, insufficient, or excessively burdensome, and to modify, streamline, expand, or repeal them in accordance with what has been learned. Executive Order 13563 is affirmed in the President's Memorandum of January 20, 2021, Modernizing Regulatory Review. The Coast Guard seeks this input recognizing the importance of reevaluating programs to reduce unnecessary barriers to effectiveness, adapt to new technologies, and ensure mission resiliency when combating and responding to climate change.

³ 76 FR 3821 (published Jan. 21, 2011).

III. Coast Guard Missions and Authorities

The Coast Guard seeks input on how best to use the Coast Guard's statutory authorities to implement these orders and to reduce the risks associated with climate change. Many of the Coast Guard's missions are identified in brief at 6 U.S.C. 468. All of these missions contribute to the facilitation of safe, secure, and environmentally responsible commerce through our stewardship of the marine transportation system. These missions include marine safety; search and rescue; aids to navigation; living marine resources (fisheries law enforcement); marine environmental protection; ice operations; ports, waterways and coastal security; drug interdiction; migrant interdiction; defense readiness; and other law enforcement.

These authorities are connected, of course, with the risks associated with climate change. The Coast Guard also has important responsibilities in acquiring scientific information, including information involving the effects of climate change, and in issuing regulations. While the Coast Guard holds a wide range of regulatory and operational authorities to fulfill these missions, the Coast Guard frequently shares responsibility for these missions with other agencies.⁴ In some cases the Coast Guard has the authority to revise regulations, guidelines, policies, or processes to address particular problems in particular ways; in other cases the Coast Guard may be unable to act without the assistance of another agency, or may be unable to act at all. Commenters are therefore encouraged to focus comments on matters within the Coast Guard's authorities, to the extent known to the commenter.

⁴ A general list of Coast Guard authorities can be found online at https://www.uscg.mil/readings/Article/1548177/authorities/#:~:text=The%20Coast%20Guard%20may%20board,suppression%20of%20violations%20of%20U.S.

Location of Coast Guard Regulations

Coast Guard regulations fall within three general categories in the Code of Federal Regulations (CFR)—navigation and navigable waters, shipping, and transportation. Below are the three corresponding titles in the CFR (and the parts in those titles) where you will find our regulations:

• 33 CFR Chapter I (parts 1 through 199),

• 46 CFR Chapters I (parts 1 through 199) and III (parts 400 through 499), and

• 49 CFR Chapter IV (parts 400 through 499).

You can view these regulations on https://www.govinfo.gov/ or https://www.ecfr.gov.

In the CFR, you will find bracketed references to rules published in the Federal Register (for example, xx FR xxxx, date). The Federal Register publications differ from the CFR in that that, through the preamble language, we fully explain our reasoning for establishing the regulations in that CFR part or section and our estimates of the costs and benefits of those regulations. Rules published since at least 1990 will be available in the Federal Register library on https://www.govinfo.gov/.

Our rulemaking documents published in the Federal Register also include a number that identifies our online docket. On https://www.regulations.gov, using that docket number, you should be able to find supporting and related material we provided for that rule, including a cost-benefit analysis. In our dockets, you will also find notices of proposed rulemaking and submissions from interested persons who commented on our initial proposal for the regulations that appear in the final rule. The preamble of the final rule contains our responses to those comments.

Location of Coast Guard Guidance Documents

You can find Coast Guard guidance documents online via https://www.uscg.mil/guidance. Guidance documents include Navigation and Vessel Inspection Circulars (NVICs), policy letters, bulletins, handbooks, and other items meant to inform the public. On this site, guidance documents are categorized by the Coast Guard office that issued and maintains the documents.

IV. Request for Information

The Coast Guard seeks public comments and suggestions on actions we can take, within our statutory authority, to combat and respond to climate change. As noted above, our mission areas encompass maritime operations, safety, security, environmental stewardship, and facilitation of the maritime commerce that contributes so crucially to a vibrant U.S. economy.

The actions we might take could include revising current regulations, guidelines, policies, or processes that unjustifiably impede or fail to support the development and use of technologies and best practices to combat or respond to climate change in the marine transportation system. We might also orient our efforts to acquire and disseminate information about the effects of climate change in particular ways (for example, through use of data.gov).

When considering your comments and suggestions, we ask that you keep in mind our missions to ensure a safe, secure, and resilient marine transportation system that facilitates commerce and secures national security interests. Commenters should consider the below principles as they answer and respond to the questions in this notice.

• Commenters should identify, with specificity, the program, regulation, or policy at issue, providing the Code of Federal Regulation (CFR) citation where appropriate.

• Commentators should identify, with specificity, small or large reforms that might be justified in light of the risks posed by climate change, whether those reforms involve preparedness, mitigation, adaptation, resilience, or other steps to reduce suffering.

• Commenters should provide, in as much detail as possible, an explanation why a program, regulation, or policy should be modified, streamlined, expanded, or repealed, as well as specific suggestions of ways the agency can better achieve its statutory and regulatory objectives in light of the executive orders cited.

• Commenters should provide specific data that document the costs, burdens, and benefits of existing requirements or programs or proposed changes to them, to the extent they are available.

The following questions might help guide your comments and suggestions. Given the Coast Guard's current missions and statutory authority:

1. Do you have suggestions for changes to our current programs, regulations, or policies that would combat climate change or bolster resilience to the impacts of climate change or adapt to its impacts, such as sea level rise?

2. What do you think the primary implications of climate change are for our mission areas?

3. How will climate change affect Coast Guard programs, missions, regulations, and policies in the future?

4. How might the Coast Guard orient or re-orient its efforts to acquire information about the effects of climate change, and how might it best disseminate that information?

5. How do you think the Coast Guard can advance the objectives of environmental justice?

6. Are you aware of any new or emerging technologies appropriate for use in maritime facilities or other industry assets that we should consider when exploring alternatives to address climate change?

7. Which Coast Guard mission areas do you think are most likely to be affected by climate change? How would they be affected?

8. What do you think are the most crucial challenges we will face to address climate change in our programs, missions, regulations, and policies?

9. Do our existing regulations unjustifiably impede or fail to support the development and use of technologies or best practices that would help us address climate change?

10. Are our regulations restrictive on the use of alternative fuels that produce fewer harmful emissions? If so, how? What, specifically, might we do to reduce greenhouse gas emissions?

11. Do our current polices, such as NVICs or other guidance documents, impede or fail to support the development and use of technologies or best practices to address climate change? If so, how?

12. Is the process of requesting a determination of equivalency to use an alternative approach to regulatory requirements that might address climate change burdensome?

13. What regulatory, policy, or other incentives could the Coast Guard provide to encourage development and use of technologies or best practices in the marine transportation system to combat and respond to climate change?

14. Are there current Coast Guard regulations, guidance, policies, or processes that contribute to climate change? If so, please explain which ones and how.

15. What sources of existing data or studies can Coast Guard use to evaluate the economic impact—positive or negative—from reducing the environmental footprint of USCG programs, regulations, or policies with regards to climate change?

16. What do you expect would be the positive or negative environmental results of the Coast Guard addressing climate change in the maritime domain, particularly in sensitive areas such as the Arctic and U.S. coastal zones?

17. Are there Coast Guard programs, regulations, or policies that do not bolster resilience to the impacts of climate change, particularly for those disproportionately impacted by climate change, and, if so, what are they? How can those programs, regulations, or policies be modified, expanded, streamlined, or repealed to bolster resilience to the impacts of climate change?

18. Do you have any suggestions for any changes to the Coast Guard's Arctic strategy or any Coast Guard Arctic programs, such as ice breaking, mapping, and charting missions that might bolster the Coast Guard's ability to combat and respond to climate change?

In addition to these general questions, the Coast Guard seeks any other input on the programs and missions described above that allows the Coast Guard, within our statutory authorities, to combat or respond to the climate crisis and adapt to its impacts on the maritime domain. This request for information is used solely for information gathering purposes and the responses to this RFI do not bind the Coast Guard to any further actions related to the response.

Dated: June 25, 2021.
J.W. Mauger,
Rear Admiral, US Coast Guard, Assistant Commandant for Prevention Policy.

[FR Doc. 2021-14575 Filed 7-7-21; 8:45 am]

BILLING CODE 9110-04-P